DEPARTMENT OF THE INTERIOR

National Park Service

[NPS-WASO-D-COS-POL-18018; PWODIREP0] [PPMPSPD1Y.YM0000]

Notice of Amendment of the Site for the May 6-7, 2015, Meeting of the National Park System Advisory Board

AGENCY: National Park Service, Interior.

ACTION: Notice of change of meeting site.

SUMMARY: In accordance with the Federal Advisory Committee Act, 5 U.S.C. Appendix 1-16, and Part 65 of title 36 of the Code of Federal Regulations, notice is hereby given of the change in the site for the May 6-7, 2015, meeting of the National Park System Advisory Board.

DATES: The Board will meet on May 6-7, 2015.

ADDRESSES: The meeting site originally published on March 8, 2015, in the Federal Register, 80 FR 12519, has changed. The new meeting site will be the Crystal Sands Room of the Hampton Inn Pensacola Beach Gulf Front, 2 Via De Luna Drive, Pensacola Beach, Florida 32561, telephone (850) 932-6800.

FOR FURTHER INFORMATION CONTACT: Shirley Sears, National Park Service, telephone (202) 354-3955, email Shirley_Sears@nps.gov.

SUPPLEMENTARY INFORMATION: The board meeting will be open to the public. The order of the agenda may be changed, if necessary, to accommodate travel schedules or for other reasons. Space and facilities to accommodate the public are limited and attendees will be accommodated on a first-come basis. Anyone may file with the Board a written statement concerning matters to be discussed. The Board also will permit attendees to address the Board, but may restrict the length of the presentations, as necessary to allow the Board to complete its agenda within the allotted time. Before including your address, telephone number, email address, or other personal identifying information in your comment, you should be aware that your entire comment—including your personal identifying information—may be made publicly available at any time. While you may ask us in your comment to withhold your personal identifying information from public review, we cannot guarantee that we will be able to do so.

Dated: April 7, 2015.
Alma Ripps,
Chief, Office of Policy.

[FR Doc. 2015-08266 Filed 4-9-15; 8:45 am]

BILLING CODE 4310-EE-P